ENVIRONMENTAL PROTECTION AGENCY

[FRL-6911-2]

Agency Information Collection Activities: Submission for OMB Review; Comment Request; Spark-Ignition Marine Engine Application for Emission Certification and, Participation in the Averaging, Banking, and Trading Program

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Spark-Ignition Marine Engine Application for Emission Certification and Participation in the Averaging, Banking, and Trading Program, OMB Control Number 2060-0321, expiration date December 31, 2000. The ICR describes the nature of the information collection and its expected burden and cost and, where appropriate, it includes the actual data collection instrument.

DATES: Comments must be submitted on or before January 3, 2001.

ADDRESSES: Send comments, referencing EPA ICR No. 1722.03 and OMB Control No. 2060-0321, to the following addresses: Sandy Farmer, U.S. Environmental Protection Agency, Collection Strategies Division (Mail Code 2822), 1200 Pennsylvania Avenue, NW, Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-mail at Farmer.sandy@epamail.epa.gov, or download from the Internet at http://www.epa.gov/icr and refer to EPA ICR No. 1722.03. For technical questions about the ICR contact: William Rutledge in the Certification and Compliance Division of the Office of Transportation and Air Quality; telephone (202) 564-9297, email address rutledge.william@epa.gov.

SUPPLEMENTARY INFORMATION: Title: Spark-Ignition Marine Engine Application for Emission Certification and Participation in the Averaging, Banking, and Trading Program OMB Control Number 2060-0321, EPA ICR No. 1722.03, expiring December 31, 2000. This is a request for extension of a currently approved collection.

Abstract: Under Title II of the Clean Air Act (42 U.S.C. 7521 et seq.; CAA), EPA is charged with issuing certificates of conformity for certain spark-ignition engines used to propel marine vessels that comply with applicable emission standards. Such a certificate must be issued before engines may be legally introduced into commerce. To apply for a certificate of conformity, manufacturers are required to submit descriptions of their planned production line, including detailed descriptions of the emission control system and engine emission test data. This information is organized by “engine family” groups expected to have similar emission characteristics. To comply with the corporate average emission standard, manufacturers must use the Averaging, Banking and Trading Program (AB&T) and must submit information regarding the calculation, actual generation and usage of emission credits in an initial report, end-of-the-year report, and final report. These reports are used for engine family certification, that is, to insure pre-production compliance with emissions requirements, and enforcement purposes. There are also record-keeping requirements. Manufacturers must maintain records for eight years on the engine families included in the program.

This information is collected by the Engine Programs Group (EPG), Certification and Compliance Division (CCD), Office of Transportation and Air Quality, U.S. Environmental Protection Agency, to provide assurance of compliance with certain minimal requirements for certification. Besides CCD, this information could be used by EPA's Office of Enforcement and Compliance Assurance (OECA) and the Department of Justice for enforcement purposes. Information that is not confidential business information (CBI) is also disclosed in a public database and through EPA's Internet web site. It is used by trade associations, environmental groups, and the public. The information is usually submitted in an electronic format, and it is stored in CCD's certification database.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 31, 2000 (65 FR 53005). No comments were received.

Burden Statement: The annual public reporting and record keeping burden for this collection of information is estimated to average 152 hours per response. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities

Respondents/Affected Entities: Engine manufacturers (SIC 3519).

Estimated Number of Respondents: 10.

Frequency of Response: On occasion and annually.

Estimated Total Annual Hour Burden: 38,647 hours.

Estimated Total Annualized Capital, O&M Cost Burden: $1,881.80.

Send comments on the Agency's need for this information, the accuracy of the provided burden estimates, and any suggested methods for minimizing respondent burden, including through the use of automated collection techniques to the addresses listed above. Please refer to EPA ICR No. 1722.03 and OMB Control No. 2060-0321 in any correspondence.

Dated: November 28, 2000.
Oscar Morales,
Director, Collection Strategies Division.

[FR Doc. 00-30808 Filed 12-1-00; 8:45 am]

BILLING CODE 6560-50-U